DEPARTMENT OF THE INTERIOR

National Park Service

[NPS-WASO-DPOL-11034; PPWODIREP0/PPMPSAS1Y.YP0000]

Notice of Availability of Draft Director's Order #77-10 Concerning National Park Service Policies and Procedures Governing Benefits Sharing

AGENCY: National Park Service, Interior.

ACTION: Notice of availability and request for comments.

SUMMARY: The National Park Service (NPS) is proposing to adopt a Director's Order setting forth policies and procedures that guide NPS practices to implement benefits sharing in accordance with the National Parks Omnibus Management Act of 1998 (16 U.S.C. 5935(d)) that authorizes the Secretary of the Interior to enter into negotiations with the research community and private industry for equitable, efficient benefits-sharing arrangements. Benefits sharing occurs when NPS receives monetary or other benefits from a discovery or invention with a commercial application resulting from research originating under an NPS Scientific Research and Collecting Permit, or other permit or authorization.

DATES: Written comments will be accepted until January 22, 2013.

ADDRESSES: Draft Director's Order #77-10 is available on the Internet at http://www.nps.gov/applications/npspolicy/DOrders.cfm where readers may comment on the draft. In lieu of the above preferred process, requests for paper copies of and written comments on the draft Director's Order should be sent to Ann Hitchcock, Senior Advisor for Scientific Collections, 1201 Eye Street NW., (Room 1247), Washington, DC 20005. We will not accept comments by fax, e-mail, or in any other way other than those specified above.

FOR FURTHER INFORMATION CONTACT: Ann Hitchcock at (202) 354-2271 or John G. Dennis at (202) 513-7174.

SUPPLEMENTARY INFORMATION: Draft Director's Order #77-10 addresses benefits sharing stemming from research results derived from NPS-permitted research and the relationship between NPS benefits sharing and NPS technology transfer activities under authority of the Federal Technology Transfer Act of 1986 and related legislation (15 U.S.C. 3710 et seq.). This Order clarifies National Park Service Management Policies 2006 4.2.4, defines NPS benefits sharing, lists fundamental benefits-sharing principles, describes basic benefits-sharing procedures, addresses related ethics and confidentiality, assigns responsibilities for administering benefits sharing, and outlines reporting requirements.

Public Availability of Comments

Before including your address, phone number, e-mail address, or other personal identifying information in your comment, you should be aware that your entire comment—including your personal identifying information—may be made publicly available at any time. While you may ask us in your comment to withhold your personal identifying information from public review, we cannot guarantee that we will be able to do so.

Dated: December 18, 2012.
Herbert C. Frost,
Associate Director, Natural Resource Stewardship and Science.

[FR Doc. 2012-30830 Filed 12-20-12; 8:45 am]

BILLING CODE 4312-52-P